DEPARTMENT OF HOMELAND SECURITY

Coast Guard

33 CFR Part 117

[USCG-2009-0378]

RIN 1625-AA09

Drawbridge Operation Regulations; Curtis Creek, Baltimore, MD

AGENCY: Coast Guard, DHS.

ACTION: Notice of temporary deviation from regulations.

SUMMARY: The Commander, Fifth Coast Guard District, has issued a temporary deviation from the regulations governing the operation of the Pennington Avenue Bridge, at mile 0.9, across Curtis Creek in Baltimore, MD. This deviation is necessary to facilitate mechanical repairs to the bridge. Under this temporary deviation, the drawbridge may remain in the closed position during the deviation period.

DATES: This deviation is effective from 7 a.m. on July 20, 2009, to 8 p.m. on August 31, 2009.

ADDRESSES: Documents mentioned in this preamble as being available in the docket are part of docket USCG-2009-0378 and are available online by going to http://www.regulations.gov, selecting the Advanced Docket Search option on the right side of the screen, inserting USCG-2009-0378 in the Docket ID box, processing Enter, and then clicking on the item in the Docket ID box. This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Bill H. Brazier, Bridge Management Specialist, Fifth Coast Guard District, telephone (757) 398-6422, e-mail Bill.H.Brazier@uscg.mil. If you have questions on viewing the docket, call Renee V. Wright, Program Manager, Docket Operations, telephone (202) 366-9826

SUPPLEMENTARY INFORMATION: The Maryland State Highway Administration (MSHA), who owns and operates this double-leaf bascule drawbridge, has requested a temporary deviation from the current operating regulations set forth in 33 CFR 117.5 and 33 CFR 117.557 to facilitate mechanical repairs.

The Pennington Avenue Bridge, a lift-type drawbridge, has a vertical clearance in the closed position to vessels of 38 feet, above mean high water. Vessels may pass underneath the bridge while the bridge is in the closed position.

Under this temporary deviation, the drawbridge will provide partial openings of the lift spans for vessels. The MSHA will repair a cracked trunnion bearing on the southwest leaf of the lift span. To facilitate repairs, MSHA must immobilize half of the drawbridge spans to single-leaf operation each day, beginning 7 a.m. on July 20, 2009, until 8 p.m. on August 31, 2009. While not under repair, the opposite connecting spans on the north side will continue to open for vessels.

The Coast Guard will inform the users of the waterway through our Local and Broadcast Notices to Mariners of the opening restrictions of the draw span to minimize transiting delays caused by the temporary deviation.

In accordance with 33 CFR 117.35(e), the drawbridge must return to its regular operating schedule immediately at the end of the designated time period. This deviation from the operating regulations is authorized under 33 CFR 117.35.

Dated: May 11, 2009.
Waverly W. Gregory, Jr.,
Chief, Bridge Administration Branch, Fifth Coast Guard District.

[FR Doc. E9-12785 Filed 6-1-09; 8:45 am]

BILLING CODE 4910-15-P